ENVIRONMENTAL PROTECTION AGENCY

[EPA-HQ-OPP-2018-0657; FRL-9987-82]

Pesticide Maintenance Fee: Product Cancellation Order for Certain Pesticide Registrations

AGENCY: Environmental Protection Agency (EPA).

ACTION: Notice.

SUMMARY: This notice announces EPA's order for the cancellations, voluntarily requested by the registrants and accepted by the Agency, of the products listed in Table 1 of Unit III., pursuant to the Federal Insecticide, Fungicide, and Rodenticide Act (FIFRA).

DATES: The cancellations are effective March 14, 2019.

FOR FURTHER INFORMATION CONTACT: Michael Yanchulis, Information Technology and Resources Management Division (7502P), Office of Pesticide Programs, Environmental Protection Agency, 1200 Pennsylvania Ave. NW, Washington, DC 20460-0001; telephone number: (703) 347-0237; email address: yanchulis.michael@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0657, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

This cancellation order follows an October 19, 2018 Federal Register Notice of Receipt of Requests from the registrants listed in Table 2 of Unit III. to voluntarily cancel these product registrations. In the October 19, 2018 notice, EPA indicated that it would issue an order implementing the cancellations, unless the Agency received substantive comments within the 30-day comment period that would merit its further review of these requests, or unless the registrants withdrew their requests. The Agency received two comments on the October 19, 2018 notice. One comment was general in nature and did not merit further review. The other comment was a request from Loveland Products, Inc. to withdraw one cancellation request for registration number WA900005 which now will be retained. The registration numbers below were listed in the October 19, 2018 notice but were listed in another request to cancel Federal Register notice so are not listed in this notice. The products and Federal Register notice are: Federal Register of August 10, 2018 (83 FR 39746; FRL-9980-44): 100-1065, 100-1174, 100-1181, 100-1257, OR040004, OR040005, OR990039, OR990040 and VA110002. Accordingly, EPA hereby issues in this notice a cancellation order granting the requested cancellations. Any distribution, sale, or use of the products subject to this cancellation order is permitted only in accordance with the terms of this order, including any existing stocks provisions.

Section 4(i)(5) of FIFRA (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2018, maintenance fees were collected in one billing cycle. In late November of 2017, all holders of either FIFRA section 3 registrations or FIFRA section 24(c) registrations were sent lists of their active registrations, along with forms and instructions for responding. They were asked to identify which of their registrations they wished to maintain in effect, and to calculate and remit the appropriate maintenance fees. Most responses were received by the statutory deadline of January 15, 2018. A notice of intent to cancel was sent in May of 2017 to companies who did not respond and to companies who responded but paid for less than all their registrations. Since mailing the notices of intent to cancel, EPA has maintained a toll-free inquiry number through which the questions of affected registrants have been answered.

In fiscal year 2018, the Agency has waived the fee for 336 minor agricultural use registrations at the request of the registrants. Maintenance fees have been paid for about 16,519 FIFRA section 3 registrations, or about 97% of the registrations on file in October 2017. Fees have been paid for about 1,838 FIFRA section 24(c) registrations, or about 86% of the total on file in October 2017. Cancellations for non-payment of the maintenance fee affect 135 FIFRA section 3 registrations and 7 FIFRA section 24(c) registrations. These cancellations can be found in Table 3 of Unit III. Cancellations for companies paying the fee at one of the capped payment amounts are considered voluntary cancellations since the registration could be maintained without an additional fee payment. These cancellations are subject to a 30-day comment period and are listed in Table 1 of Unit III.

The cancellation orders generally permit registrants to continue to sell and distribute existing stocks of the canceled products until January 15, 2019, 1-year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. What action is the Agency taking?

This notice announces the cancellation, as requested by registrant, of products registered under FIFRA section 3 (7 U.S.C. 136a). These registrations are listed in sequence by registration number in Table 1 of this unit.

Table 1—Product Cancellations
Registration No. | Company No. | Product name | Chemical name
100-1053 | 100 | Havoc Rodenticide Bait Pack Pellets with Bittrex | Brodifacoum.
100-1054 | 100 | Havoc Rodenticide Bait Pack Mini-Pellets with Bitrex | Brodifacoum.
100-1082 | 100 | Demand Pestab Insecticide | lambda-Cyhalothrin.
100-1142 | 100 | Mesotrione/acetochlor 3.5 CS | Mesotrione; Acetochlor.
100-1152 | 100 | Lumax Selective Herbicide | Mesotrione; Atrazine; S-Metolachlor.
100-1201 | 100 | Lexar Herbicide | Mesotrione; Atrazine; S-Metolachlor.
100-1396 | 100 | Flexstar Gt Manufacturing Use Concentrate | Glyphosate; Sodium salt of fomesafen.
100-1436 | 100 | Derby | Thiamethoxam; lambda-Cyhalothrin.
100-1542 | 100 | Zyrox SC | Cyantraniliprole.
228-689 | 228 | MSM E-Pro 60 EG Herbicide | Metsulfuron.
228-702 | 228 | Nufarm Prosedge Selective Herbicide | Halosulfuron-methyl.
264-1075 | 264 | Wolverine Herbicide | Bromoxynil octanoate; Bromoxynil heptanoate; Fenoxaprop-p-ethyl; Pyrasulfotole Technical.
264-1103 | 264 | Atlantis Herbicide | Mesosulfuron-methyl; Iodosulfuron-methyl-sodium.
270-307 | 270 | Farnam Pet Spray 549 | MGK 264; Pyrethrins; Pyriproxyfen.
400-583 | 400 | Captan Technical | Captan.
400-599 | 400 | Flupro-Technical | Flumetralin.
432-1232 | 432 | Chipco 26019 75WDG Brand Fungicide | Iprodione.
432-1568 | 432 | Plainview Herbicide | Aminocyclopyrachlor; Sulfometuron; Chlorsulfuron.
432-1577 | 432 | Lineage HWC Herbicide | Imazapyr; Sulfometuron; Metsulfuron.
432-1579 | 432 | Lineage Prep Herbicide | Imazapyr; Sulfometuron; Metsulfuron.
875-41 | 875 | Diversol CX with Arodyne | Sodium hypochlorite.
875-95 | 875 | Low Temperature Sanitizer W500l | Sodium hypochlorite.
875-182 | 875 | Divosan X-Tend | Phosphoric acid.
875-185 | 875 | Pro-Kleen | Phosphoric acid; Dodecylbenzenesulfonic acid.
1015-67 | 1015 | Douglas Pyrethrin 5 | MGK 264; Piperonyl butoxide; Pyrethrins.
2596-86 | 2596 | Hartz 2 in 1 Flea & Tick Dip for Dogs with Pyrethrin | MGK 264; Piperonyl butoxide; Pyrethrins.
2724-640 | 2724 | Speer Neoperm Wasp & Hornet Killer #1 | Piperonyl butoxide; Permethrin; Tetramethrin.
2724-646 | 2724 | Speer Neoperm Crawling Insect Killer IV | Piperonyl butoxide; Permethrin; Tetramethrin.
3862-135 | 3862 | Drop Dead | Propoxur; MGK 264; Piperonyl butoxide; Pyrethrins.
3862-156 | 3862 | Microbiocide LD-5 | Potassium dimethyldithiocarbamate.
5383-88 | 5383 | Troysan Polyphase 588 | Carbamic acid, butyl-, 3-iodo-2-propynyl ester; Irgarol 1051.
5383-102 | 5383 | Mergal S90 | Carbendazim; Octhilinone; Irgarol 1051.
5383-115 | 5383 | Polyphase 3000 | Carbamic acid, butyl-, 3-iodo-2-propynyl ester.
5383-167 | 5383 | Nuosept Bit Technical | 1,2-Benzisothiazolin-3-one.
5736-102 | 5736 | Super-Bol | Quaternary Ammonium Compounds.
5813-52 | 5813 | Ultra Clorox Brand 6.15% Bleach | Sodium hypochlorite.
9198-70 | 9198 | The Andersons Weed & Feed | 2,4-D, dimethylamine salt.
9198-79 | 9198 | The Andersons Tee Time Fertilizer with 1.15% Team | Benfluralin; Trifluralin.
9198-111 | 9198 | The Andersons 1.0% Bayleton(R) Fungicide | Triadimefon.
9198-184 | 9198 | Andersons Golf Products Kog Weed Control | Dicamba.
9198-201 | 9198 | High K Fertilizer with TGR POA Annual Control | Paclobutrazol.
9198-216 | 9198 | The Anderson's 0.058% Granular Bifenthrin Insecticide | Bifenthrin.
11556-164 | 11556 | Americare Rabon Flea & Tick Collar for Dogs | Gardona (cis-isomer).
11556-165 | 11556 | Americare Rabon Flea & Tick Collar for Cats | Gardona (cis-isomer).
28293-146 | 28293 | Unicorn Concentrated Flea and Tick Dip | MGK 264; Piperonyl butoxide; Pyrethrins.
28293-158 | 28293 | Unicorn Knockdown Spray | MGK 264; Permethrin; Pyrethrins.
28293-161 | 28293 | Unicorn Home Fogger | MGK 264; Permethrin; Pyrethrins.
28293-214 | 28293 | Unicorn IGR Total Release Fogger | MGK 264; Permethrin; Pyriproxyfen; Pyrethrins.
53883-245 | 53883 | Diuron 4L Algaecide | Diuron.
55146-150 | 55146 | NUP-12103 Bulk Product | Azoxystrobin; Propiconazole.
60063-27 | 60063 | Sipcam Propiconazole 1.3ME | Propiconazole.
66222-96 | 66222 | Diuron 90DF | Diuron.
66222-170 | 66222 | Rotary 2 SL | Imazapyr, isopropylamine salt.
66330-377 | 66330 | Thifensulfuron + Tribenuron 4:1 Herbicide Tank Mix | Thifensulfuron.
66330-378 | 66330 | Thifensulfuron + Tribenuron 2:1 Herbicide Tank Mix | Thifensulfuron; Tribenuron-methyl.
66330-405 | 66330 | Raze Herbicide | Fluroxypyr 1-methylheptyl ester; Flucarbazone-sodium.
66330-426 | 66330 | Dicamba Technical | Dicamba.
66330-427 | 66330 | Dicamba Technical B | Dicamba.
67619-7 | 67619 | CPPC Ultra Bleach | Sodium hypochlorite.
68156-4 | 68156 | Dintec HFP Trifluralin | Trifluralin.
69681-33 | 69681 | Clor Mor Multishock Plus | Sodium dichloro-s-triazinetrione.
69681-34 | 69681 | Clor Mor Triple-Action Chlorinating Tabs | Trichloro-s-triazinetrione; Boron sodium oxide (B4Na2O7), pentahydrate.
70627-4 | 70627 | Johnson CRS | Sodium hypochlorite.
70627-51 | 70627 | Raid Commercial Flying Insect Killer | Piperonyl butoxide; Tetramethrin.
70627-61 | 70627 | Multi-Surface Antibacterial | L-Lactic acid.
70627-76 | 70627 | Windex Multi-Surface Disinfectant | L-Lactic acid.
72155-10 | 72155 | Merit 0.005% PM Plus Fertilizer | Imidacloprid.
72155-34 | 72155 | Beta-Cyfluthrin 0.05% Fire Ant Granular Insecticide | beta-Cyfluthrin.
72155-44 | 72155 | Merit 0.2 Granular Insecticide | Imidacloprid.
72155-61 | 72155 | Tebuconazole 1.0% + Merit 0.2% Concentrate Fungicide/Insecticide | Tebuconazole; Imidacloprid.
72155-89 | 72155 | Lawn 3FL Herbicide Concentrate/Ready-To-Spray | 2,4-D, dimethylamine salt; Mecoprop-P; Dicamba, potassium salt; Indaziflam.
72155-90 | 72155 | Lawn 3FL Herbicide Ready-To-Use | 2,4-D, dimethylamine salt; Mecoprop-P; Dicamba, potassium salt; Indaziflam.
72155-104 | 72155 | Lawn 3FL2 Herbicide Concentrate/Ready-To-Spray | 2,4-D, dimethylamine salt; Mecoprop-P; Dicamba, potassium salt; Indaziflam.
72155-105 | 72155 | Lawn 3FL2 Herbicide Ready-To-Use | 2,4-D, dimethylamine salt; Mecoprop-P-potassium; Dicamba, potassium salt; Indaziflam.
72304-8 | 72304 | Clortram F-54 | Chlorothalonil.
83070-10 | 83070 | Eject 4L | Quinclorac.
85588-11 | 85588 | Pysonex Herbicide | Pyrithiobac-sodium.
AL170004 | 352 | Dupont Fexapan Herbicide | Dicamba, diglycolamine salt.
AR080014 | 352 | Dupont Firstshot SG Burndown Herbicide | Thifensulfuron; Tribenuron-methyl.
AR100005 | 8033 | Confirm 2F Agricultural Insecticide | Tebufenozide.
AR120008 | 59639 | V-10142 AG Herbicide | Imazosulfuron.
AR130010 | 352 | Dupont Realm Q Herbicide | Mesotrione; Rimsulfuron.
AR140004 | 8033 | Intruder Brand Insecticide | Acetamiprid.
AR940002 | 59639 | Valent Bolero 8 EC | Thiobencarb.
AR940003 | 59639 | Valent Bolero 8 EC | Thiobencarb.
AR950004 | 59639 | Valent Bolero 8 EC | Thiobencarb.
AZ110002 | 7173 | Difethialone Paste Place Packs | Difethialone.
AZ120003 | 10163 | Intruder Brand Insecticide | Acetamiprid.
AZ170005 | 8033 | Assail 70WP Insecticide | Acetamiprid.
CA040027 | 5481 | Alco Citrus Fix | 2,4-D, isopropyl ester.
CA100007 | 34704 | Liqui-Stik Concentrate | Ammonium 1-naphthaleneacetate.
CA930003 | 59639 | Valent Bolero 8 EC | Thiobencarb.
CA930013 | 5481 | Tre-Hold Sprout Inhibitor A112 | Ethyl 1-naphthaleneacetate.
CA990022 | 352 | Dupont Asana XL Insecticide | Esfenvalerate.
FL030004 | 100 | Fulfill | Pymetrozine.
FL040006 | 100 | Fulfill Insecticide | Pymetrozine.
FL930010 | 59639 | Valent Bolero 8 EC | Thiobencarb.
GA110002 | 100 | Ridomil Gold SL | Metalaxyl-M.
GA170003 | 352 | Dupont Fexapan Herbicide | Dicamba, diglycolamine salt.
GA990005 | 5481 | Vapam HL Soil Fumigant | Metam-sodium.
HI120004 | 100 | Evik 80 WDG | Ametryn.
ID000010 | 100 | Fulfill | Pymetrozine.
ID060007 | 241 | Prowl H2O Herbicide | Pendimethalin.
ID080006 | 66330 | Evito 480 SC Fungicide | Fluoxastrobin.
ID090016 | 5481 | Orthene 97 | Acephate.
ID110005 | 59639 | Metconazole 50 WDG Fungicide | Metconazole.
ID960008 | 7969 | Basagran Herbicide | Sodium bentazon.
IN110002 | 100 | Ridomil Gold SL | Metalaxyl-M.
KY140038 | 100 | Ridomil Gold SL | Metalaxyl-M.
LA010003 | 59639 | Valent Bolero 8 EC | Thiobencarb.
LA070001 | 241 | Scepter 70 DG Herbicide | Imazaquin.
LA120001 | 352 | Dupont Dermacor X-100 Seed Treatment | Chlorantraniliprole.
LA120016 | 241 | Prowl H2O Herbicide | Pendimethalin.
LA140002 | 8033 | Intruder Brand Insecticide | Acetamiprid.
LA950005 | 59639 | Valent Bolero 8 EC | Thiobencarb.
ME100001 | 50534 | Bravo ZN | Chlorothalonil.
MI040001 | 50534 | Bravo 720 | Chlorothalonil.
MI040002 | 50534 | Bravo ZN | Chlorothalonil.
MI100002 | 50534 | Bravo Weather Stik | Chlorothalonil.
MI120001 | 50534 | Bravo 720 | Chlorothalonil.
MI130004 | 100 | Cannonball WP | Fludioxonil.
MN030006 | 50534 | Bravo Weatherstik | Chlorothalonil.
MN030007 | 50534 | Bravo Ultrex | Chlorothalonil.
MN030008 | 50534 | Bravo ZN | Chlorothalonil.
MN080002 | 66330 | Malathion 5 EC | Malathion.
MO030005 | 59639 | Valent Bolero 8 EC | Thiobencarb.
MO130001 | 352 | Dupont Realm Q Herbicide | Mesotrione; Rimsulfuron.
MO930007 | 59639 | Valent Bolero 8 EC | Thiobencarb.
MO940005 | 59639 | Valent Bolero 8 EC | Thiobencarb.
MO950002 | 59639 | Valent Bolero 8 EC | Thiobencarb.
MS120006 | 352 | Dupont Realm Q Herbicide | Mesotrione; Rimsulfuron.
MS140006 | 8033 | Intruder Brand Insecticide | Acetamiprid.
MS930009 | 59639 | Valent Bolero 8 EC | Thiobencarb.
MS930010 | 59639 | Valent Bolero 8 EC | Thiobencarb.
MS950007 | 59639 | Valent Bolero 8 EC | Thiobencarb.
MT030008 | 100 | Fulfill | Pymetrozine.
MT080003 | 39039 | Python Insecticide Cattle Ear Tag | Piperonyl butoxide; Zeta-Cypermethrin.
MT110001 | 59639 | Metconazole 50 WDG Fungicide | Metconazole.
MT960001 | 7969 | Basagran Herbicide | Sodium bentazon.
NC070003 | 59639 | Select Max Herbicide in Inside Technology | Clethodim.
NC110004 | 100 | Ridomil Gold SL | Metalaxyl-M.
NC120011 | 241 | Prowl H2O Herbicide | Pendimethalin.
NC130003 | 5481 | Vapam HL Soil Fumigant | Metam-sodium.
NC830009 | 5481 | Zeneca Vapam 4-S Soil Fumigant Solution | Metam-sodium.
ND030007 | 50534 | Bravo Weatherstik | Chlorothalonil.
ND030008 | 50534 | Bravo ZN | Chlorothalonil.
ND170007 | 70506 | Super Tin 4L | Fentin hydroxide.
NE090001 | 50534 | Bravo 720 | Chlorothalonil.
NE090002 | 50534 | Bravo ZN | Chlorothalonil.
NJ110011 | 50534 | Bravo 720 | Chlorothalonil.
NM140002 | 34704 | Malathion 8 Aquamul | Malathion.
NV000004 | 100 | Fulfill | Pymetrozine.
NV110002 | 59639 | Valor Herbicide | Flumioxazin.
NY120011 | 7969 | Headline Fungicide | Pyraclostrobin.
NY120012 | 7969 | Bas 556 SC | Pyraclostrobin; Metconazole.
NY120013 | 7969 | Headline SC | Pyraclostrobin.
NY140004 | 7969 | Merivon Xemium Brand Fungicide | Pyraclostrobin; Fluxapyroxad.
NY140005 | 7969 | Priaxor Xemium Brand Fungicide | Pyraclostrobin; Fluxapyroxad.
NY170003 | 352 | Dupont Fexapan Herbicide | Dicamba, diglycolamine salt.
OH110005 | 100 | Ridomil Gold SL | Metalaxyl-M.
OK090002 | 39039 | Python Insecticide Cattle Ear Tag | Piperonyl butoxide; Zeta-Cypermethrin.
OR070018 | 66222 | Diazinon AG500 | Diazinon.
OR110004 | 7969 | Basf Poast Herbicide | Sethoxydim.
OR950033 | 7969 | Basagran Herbicide | Sodium bentazon.
SC120001 | 100 | Ridomil Gold SL | Metalaxyl-M.
SC960006 | 5481 | Vapam HL Soil Fumigant | Metam-sodium.
SD110003 | 39039 | Python Insecticide Cattle Ear Tag | Piperonyl butoxide; Zeta-Cypermethrin.
SD120001 | 7969 | Optill Pro Powered by Kixor Herbicide | Imazethapyr; Saflufenacil.
TN050001 | 5481 | Orthene 97 | Acephate.
TN110002 | 100 | Ridomil Gold SL | Metalaxyl-M.
TN130008 | 34704 | Tombstone | Cyfluthrin.
TX930007 | 59639 | Cobra Herbicide | Lactofen.
TX930023 | 59639 | Valent Bolero 8 EC | Thiobencarb.
TX980004 | 5481 | Orthene Turf, Tree & Ornamental Spray B WSP | Acephate.
UT000010 | 100 | Fulfill | Pymetrozine.
UT090001 | 8033 | Assail 70WP Insecticide | Acetamiprid.
UT120030 | 100 | Gramoxone SL 2.0 | Paraquat dichloride.
UT990004 | 352 | Vydate L Insecticide/Nematicide | Oxamyl.
UT990005 | 5481 | Dibrom 8 Emulsive | Naled.
VA050004 | 70506 | Waylay 3.2 AG Permethrin Insecticide | Permethrin.
WA000016 | 100 | Fulfill | Pymetrozine.
WA000017 | 100 | Fulfill | Pymetrozine.
WA110004 | 66330 | ARY 0454-105 Suspension Concentrate Herbicide | Flucarbazone-sodium.
WA120011 | 59639 | Valor Herbicide | Flumioxazin.
WA130007 | 100 | Fusilade II Turf and Ornamental Herbicide | Fluazifop-P-butyl.
WA900012 | 7969 | Basagran | Sodium bentazon.
WI130009 | 50534 | Bravo 825 Agricultural Fungicide | Chlorothalonil.
WI130010 | 50534 | Bravo 720 | Chlorothalonil.
WI130011 | 50534 | Bravo ZN | Chlorothalonil.
WI130013 | 50534 | Bravo 720 | Chlorothalonil.

Table 2 of this unit includes the names and addresses of record for all registrants of the products in Table 1 of this unit, in sequence by EPA company number. This number corresponds to the first part of the EPA registration numbers of the products listed in Table 1 of this unit.

Table 2—Registrants of Canceled Products
EPA company No. | Company name and address
100 | Syngenta Crop Protection, LLC, P.O. Box 18300, Greensboro, NC 27419.
228 | Nufarm Americas, Inc., 4020 Aerial Center Parkway, Suite 101, Morrisville, NC 27560.
241 | BASF Corporation, P.O. Box 13528, Research Triangle Park, NC 27709.
264 | Bayer Cropscience LP, P.O. Box 12014, Research Triangle Park, NC 27709.
270 | Farnam Companies, Inc., 1501 E Woodfield Road, Suite 200 West, Shaumburg, IL 60173.
352 | E I. Du Pont de Nemours and Company, Chestnut Run Plaza, 974 Centre Road, Wilmington, DE 19805.
400 | MacDermid Agricultural Solutions, Inc., c/o Arysta Lifescience North America, LLC, 15401 Weston Parkway, Suite 150, Cary, NC 27513.
432 | Bayer Environmental Science, A Division of Bayer Cropscience LP, P.O. Box 12014, Research Triangle Park, NC 27709.
875 | Diversey, Inc., 1410 Newman Road, Racine, WI 53406.
1015 | Pyxis Regulatory Consulting, Inc., Agent for Douglas Products and Packaging Co., 4110 136th Street CT NW, Gig Harbor, WA 98332.
2596 | The Hartz Mountain Corporation, 400 Plaza Drive, Secaucus, NJ 07094.
2724 | Wellmark International, 1501 E Woodfield Road, Suite 200 West, Shaumburg, IL 60173.
3862 | ABC Compounding Co., Inc., P.O. Box 80729, Conyers, GA 30013.
5383 | Troy Chemical Corp., c/o. Troy Corporation, 8 Vreeland Road, Florham Park, NJ 07932.
5481 | AMVAC Chemical Corporation, 4695 MacArthur Court, Suite 1200, Newport Beach, CA 92660.
5736 | Diversey, Inc., 1410 Newman Road, Racine, WI 53406.
5813 | The Clorox Co., c/o PS&RC, P.O. Box 493, Pleasanton, CA 94566.
7173 | Liphatech, Inc., 3600 W Elm Street, Milwaukee, WI 53209.
7969 | BASF Corporation, Agricultural Products, P.O. Box 13528, Research Triangle Park, NC 27709.
8033 | Nisso America Inc., Agent for Nippon Soda Co., Ltd., 88 Pine Street, 14th Floor, New York, NY 10005.
9198 | The Andersons, Inc., P.O. Box 119, Maumee, OH 43537.
10163 | Gowan Company, P.O. Box 5569, Yuma, AZ 85366.
11556 | Bayer Healthcare LLC, Animal Health Division, P.O. Box 390, Shawnee Mission, KS 66201.
28293 | Phaeton Corp., d/b/a Unicorn Laboratories, 1501 E Woodfield Road, Suite 200 West, Schaumburg, IL 60173.
34704 | Loveland Products, Inc., P.O. Box 1286, Greeley, CO 80632.
39039 | Y-Tex Corporation, 1825 Big Horn Avenue, Cody, WY 82414.
50534 | GB Biosciences, LLC, P.O. Box 18300, Greensboro, NC 27419.
53883 | Control Solutions, Inc., 5903 Genoa Red Bluff Road, Pasadena, TX 77507.
55146 | Nufarm Americas, Inc., 4020 Aerial Center Parkway, Suite 101, Morrisville, NC 27560.
59639 | Valent U.S.A. Corporation, 1600 Riviera Avenue, Suite 200, Walnut Creek, CA 94596.
60063 | Sipcam Agro USA, Inc., 2525 Meridian Pkwy., Suite 350, Durham, NC 27713.
66222 | Makhteshim Agan of North America, Inc., D/B/A Adama, 3120 Highwoods Blvd., Suite 100, Raleigh, NC 27604.
66330 | Arysta Lifescience North America, LLC, 15401 Weston Parkway, Suite 150, Cary, NC 27513.
67619 | Clorox Professional Products Company, c/o PS&RC, P.O. Box 493, Pleasanton, CA 94566.
68156 | Dintec Agrichemicals, LLC, 9330 Zionsville Road, Indianapolis, IN 46268.
69681 | Allchem Performance Products, 6010 NW First Place, Gainesville, FL 32607.
70506 | United Phosphorus, Inc., 630 Freedom Business Center, Suite 402, King of Prussia, PA 19406.
70627 | Diversey, Inc., 1410 Newman Road, Racine, WI 53406.
72155 | Bayer Advanced, A Business Unit of Bayer CropScience LP, 2 T.W Alexander Drive, Research Triangle Park, NC 27709.
72304 | Sostram Corporation, 2525 Meridian Parkway, Suite 350, Durham, NC 27713.
83070 | Advan LLC, 2525 Meridian Parkway, Suite 350, Durham, NC 27713.
85588 | DuPont Crop Protection, Agent for Agsurf Corporation, Chestnut Run Plaza, 974 Center Road, Newark, DE 19805.

Table 3 of this unit lists all of the FIFRA section 3 and section 24(c) registrations which were canceled for non-payment of the 2018 maintenance fee. These registrations have been canceled by order on September 14, 2018 and without hearing.

Table 3—FIFRA Section 3 and Section 24(c) Registrations Cancelled for Non-Payment of 2018 Maintenance Fee
Registration No. | Product name
278-66 | Sodium Hypochlorite Concentrate Solution.
806-19 | Avon Skin-So-Soft Bug Guard Plus IR3535 Expedition Insect Repellent SPF 12 Sunscreen Spray.
806-28 | SSS Bug Guard Plus IR3535 Insect Repellent Outdoor Cool Lotion Spray SPF 15 Sunscreen.
2342-897 | Tronox Sodium Chlorate.
2342-977 | Sodium Chlorate Solution.
2749-526 | Dads.
2749-537 | Glyphosate IPA 41%.
2749-541 | Glyphosate IPA 41% Sl.
2749-552 | Glyfine 5 Plus Herbicide.
2749-559 | Aceto Mepiquat Chloride 4.2% PGR.
2749-566 | Glyfine K Plus Herbicide.
3876-158 | Spectrus OX109.
3876-20001 | Slimicide C-70.
4713-5 | Kenya Pyrethrum Extract Refined Concentrate.
5042-35 | RCO Patrol Burrow Builder Bait for Moles & Gophers.
6297-6 | Bissell Acarosan Dust Mite Powder.
6297-7 | Bissell Formula 555.
7152-15 | Seaboard Sea/Chlor.
7675-5 | Lithium Hypochlorite Industrial Disinfectant and/or Sanitizer.
7675-6 | Lithium Hypochlorite.
8405-23 | Webco Acid Sanitizer 2.
8622-42 | Methylene Bis (Thiocyanate).
8622-58 | Fuzzicide-Comp.
11694-114 | CCT2 Sanitizer Wipes.
13283-37 | Fire Ant Killer Granules.
33906-21 | Pyramite.
33906-24 | Desperado.
34052-10 | San-O-Dine.
34052-18 | Bear-Cat RH 13 EC.
35484-5 | Copper Hydroxide Technical.
35978-8 | Sodium Fluoroacetate (Compound 1080) Livestock Protection Collar.
37686-72 | CNI 440 Spray Oil.
37686-73 | CNI Hi Supreme Spray Oil.
37686-74 | CNI 415 Summer Spray Oil.
41856-1 | Griffin 455 Soluble Oil.
42048-1 | Glyco-San.
44446-75 | CS101 Roach & Ant Spray.
45337-15 | No Mor Problems II.
48139-6 | Everglades Insect Repellent.
48139-12 | Everglade Insect Repellent Towelette.
48302-12 | Sea Grand Prix CF-10.
48377-1 | Catchmaster Roach Killing Powder (with Boric Acid).
51838-1 | Ozium Commercial Air Sanitizer.
53575-46 | Isomate CM/OFM Mist II.
56248-3 | Basic Copper Carbonate—Dry.
57538-50 | Stimulate Seed Germ.
58300-20 | Hycide.
58300-23 | Defend.
58300-24 | Woodworx.
59106-2 | Bio-Clear 750.
59905-10 | Arbortech Manufacturing Use Only.
59905-11 | Armor-Guard Industrial.
62275-1 | Bacteriostatic Water Filter Media.
62575-1 | 2,4-D Amine-4.
62575-8 | 2,4-D Amine-6 Herbicide.
62575-9 | Biesterfeld Diuron 80.
62575-12 | Atrazine 90 DF.
64137-8 | Primastop Biofungicide Powder.
64745-4 | Three Elephant Disodium Octaborate Tetrahydrate Technical.
64914-1 | Humidifier Cleaning Solution.
65161-1 | Fleago the Magic Crystal.
67572-12 | R & M Dog and Cat Repellent Spray #1.
68173-2 | Endorse Wettable Powder Fungicide.
68543-9 | Bengal Roach & Flea Fogger.
68575-2 | Palene LN 710-C.
69208-1 | Shaker Duster.
69361-41 | Dicamba Technical Herbicide.
69361-50 | Propiconazole Technical.
69826-1 | Warfarin Technical.
70062-5 | Babolna Residual Flea Killer Aerosol.
70062-7 | Babolna Bio Flea Killer Spray.
70062-8 | Babolna Cockroach Killer Fogger (Aerosol).
70191-3 | Pathway K+Neem Insecticide-Fungicide II.
70191-4 | Pathway Ready-To-Use K+Neem Insecticide-Fungicide II.
71406-3 | Sinesto B.
72956-1 | Sani-Towel.
73562-2 | Signafresh 10EC.
75082-3 | Krud Kutter MC-2.
81927-10 | Alligare Dithiopyr 40.
82118-1 | Sodium Hypochlorite Sanitizer and Cleaner.
82415-1 | Bactekiller AC.
82415-3 | Bactekiller A.
83135-1 | Sports-Aide 1000.
83451-1 | Towerpro Tablets.
83471-4 | Trinova Chlor.
83529-23 | Shypho-AQ Aquatic & VM Herbicide.
83529-28 | Hexy 2E.
83825-1 | Fresh Impression Anti-Bacterial Disinfecting Toilet Bowl Cleaner.
83991-1 | Fecundal 100EC.
83991-3 | Imazalil Technical.
84059-2 | Milsana Bioprotectant Concentrate.
84059-7 | Regalia Disease Control Concentrate.
84059-8 | Regalia-Garden Disease Control.
84059-10 | MBI-203 EP Bioinsecticide.
84059-16 | MBI-203 SC Bioinsecticide.
84697-1 | Regular Scent Bleach.
84697-2 | Regular Scent Concentrated Bleach 8.25%.
84708-3 | Green Dragon Insect Bait.
84886-1 | Precise Acephate.
84886-2 | Precise Acephate Greenhouse & Nursery Insecticide.
85021-3 | Aquaox Disinfectant 460.
85199-10 | Burrows C Wrap.
85224-2 | Antright.
85353-4 | Cuverro IV.
85852-1 | Algicid-Plus.
87122-1 | Nab Nico Tech.
87122-2 | Nicon 75 WDG.
87262-9 | C-Quat 1650.
87636-1 | Anolyte.
87636-2 | Envirolyte.
87747-1 | Sodium Hypochlorite 12.5%.
87949-1 | Diatomaceous Earth for Pets.
87949-2 | Diatomaceous Earth for Pets.
88060-2 | Duratex 852.
88346-3 | Pooline Super Dichlor 62.
88704-1 | CuH2O.
88746-4 | Apex German Cockroach Bait.
89014-1 | Scraminator Crawling Insect Killer.
89041-1 | Azaplus.
89152-1 | Conquer 3.0.
89152-2 | Defeat 1.5.
89363-1 | Sequent S-Methoprene Technical.
90188-2 | Propanil 4SC Herbicide.
90354-2 | Yellow Jacket Killer!.
90436-1 | ARG-001.
90456-1 | B-8525.
90605-1 | Mineraluxe Oxygen.
91113-1 | TAS-007 Granule Biological Nematicide and Insecticide.
91209-5 | Micro Kleen.
91209-6 | Super Scrub 15.
91620-2 | Kinetin Technical.
92504-1 | Quick Clone Gel.
92534-3 | Novita Metolachlor.
92629-3 | Nemastar.
92630-1 | Zadirax.
CA110011 | Lorox DF.
CA860005 | Ortho Dibrom 14 Concentrate.
ID050012 | Pin Nip 98% Chlorpropham.
ID140001 | Lorox DF.
NY130007 | Pathex Antimicrobial Filter Media.
PR150001 | Ovocontrol P.
WA140002 | Lorox DF.

IV. Summary of Public Comments Received and Agency Response to Comments

During the public comment period provided, EPA received two comments were received in response to the October 19, 2018 Federal Register notice announcing the Agency's receipt of the requests for voluntary cancellations of products listed in Table 1 of Unit III. One comment was general in nature did not merit further review. The other comment was from Loveland Products, Inc. requesting that EPA Reg. No. WA900005 be retained because the voluntary cancellation request was made in error. As a result of this comment, the Agency is retaining the registration of EPA Reg. No. WA900005.

V. Cancellation Order

Pursuant to FIFRA section 6(f) (7 U.S.C. 136d(f)), EPA hereby approves the requested cancellations of the registrations identified in Table 1 of Unit III. Accordingly, the Agency hereby orders that the product registrations identified in Table 1 of Unit III. are canceled. The effective date of the cancellations that are the subject of this notice is March 14, 2019. Any distribution, sale, or use of existing stocks of the products identified in Table 1 of Unit III. in a manner inconsistent with any of the provisions for disposition of existing stocks set forth in Unit VII. will be a violation of FIFRA.

VI. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of October 19, 2018 (83 FR 53054) (FRL-9983-98). The comment period closed on November 19, 2018.

VII. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until January 15, 2019 or the date of publication of this Federal Register notice, whichever is later. Thereafter, the registrants are prohibited from selling or distributing products listed in Table 1, except for export in accordance with FIFRA section 17 (7 U.S.C. 136o), or proper disposal. Persons other than the registrants may sell, distribute, or use existing stocks of products listed in Table 1 of Unit III. until existing stocks are exhausted, provided that such sale, distribution, or use is consistent with the terms of the previously approved labeling on, or that accompanied, the canceled products.

Authority: 7 U.S.C. 136 et seq.

Dated: February 26, 2019.
Delores Barber,
Director, Information Technology and Resources Management Division, Office of Pesticide Programs.

[FR Doc. 2019-04695 Filed 3-13-19; 8:45 am]

BILLING CODE 6560-50-P